DEPARTMENT OF JUSTICE

Federal Bureau of Investigation

[OMB Number 1110-0055]

Agency Information Collection Activities; Proposed eCollection eComments Requested; Extension Without Change, of a Currently Approved Collection; The National Instant Criminal Background Check System (NICS) Checks by Criminal Justice Agencies

AGENCY: Federal Bureau of Investigation, Department of Justice.

ACTION: 60-Day notice.

SUMMARY: The Department of Justice (DOJ), Federal Bureau of Investigation (FBI), Criminal Justice Information Services (CJIS) Division, will be submitting the following information collection request to the Office of Management and Budget (OMB) for review and approval in accordance with the Paperwork Reduction Act of 1995.

DATES: Comments are encouraged and will be accepted for 60 days until June 29, 2020.

FOR FURTHER INFORMATION CONTACT: All comments, suggestions, or questions regarding additional information, to include obtaining a copy of the proposed information collection instrument with instructions, should be directed to the Federal Bureau of Investigation, Criminal Justice Information Services Division, National Instant Criminal Background Check System Section, Module A-3, 1000 Custer Hollow Road, Clarksburg, West Virginia 26306, or email NICS@fbi.gov. Attention: OMB PRA 1110-0055

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Overview of this information collection:

1 Type of Information Collection: Extension of a currently approved collection.

2 The Title of the Form/Collection: The National Instant Criminal Background Check System (NICS) Checks by Criminal Justice Agencies (CJA).

3 The agency form number, if any, and the applicable component of the Department sponsoring the collection: The form number is unnumbered. The applicable component within the Department of Justice is the Criminal Justice Information Services Division, in the Federal Bureau of Investigation.

4 Affected public who will be asked or required to respond, as well as a brief abstract: Primary: Federal, State, County, City, Tribal law enforcement agencies.

Abstract: In November 1993, the Brady Handgun Violence Prevention Act of 1993 (Brady Act), Public Law 103-159, was signed into law and required federal firearms licensees (FFL) to request background checks on individuals attempting to purchase or receive a firearm. The permanent provisions of the Brady Act, which went into effect on November 30, 1998, required the United States Attorney General to establish a NICS that FFLs may contact by telephone, or other electronic means in addition to the telephone, for information to be supplied immediately as to whether the receipt of a firearm by a prospective transferee would violate Section 922 (g) or (n) of Title 18, United States Code, or state law. There are additional authorized uses of the NICS found at Title 28, Code of Federal Regulations (CFR), Section 25.6(j). The FBI authorized the CJAs to initiate a NICS check to assist their transfer of firearms to private individuals as a change to 28 CFR 25.6(j) in the Federal Register, Volume 78, Number 18 pages 5757-5760.

5 An estimate of the total number of respondents and the amount of time estimated for an average respondent to respond: It is estimated the time burden associated with this collection is 3 minutes per transaction, depending on the individual circumstance. The total annual respondent entities taking advantage of this disposition process is 21,156 CJAs.

6 An estimate of the total public burden (in hours) associated with the collection: It is estimated the burden associated with this collection is 3 minutes per transaction depending on the individual circumstance. If each of the 21,156 respondents conducted 3 dispositions with this authority per year at 3 minutes per check, then it is anticipated the business burden would be 3,173.4 hours per year.

If additional information is required contact: Melody Braswell, Department Clearance Officer, United States Department of Justice, Justice Management Division, Policy and Planning Staff, Two Constitution Square, 145 N Street NE, 3E.405A, Washington, DC 20530.

Dated: April 24, 2020.
Melody Braswell,
Department Clearance Officer for PRA, U.S. Department of Justice.

[FR Doc. 2020-09088 Filed 4-28-20; 8:45 am]

BILLING CODE 4410-02-P